DEPARTMENT OF EDUCATION

[Docket ID ED-2017-FSA-0047]

Privacy Act of 1974; Matching Program

AGENCY: Department of Education.

ACTION: Notice of the re-establishment of a computer matching program.

SUMMARY: This document provides notice of the re-establishment of a computer matching program between the Department of Education (ED) and the Defense Manpower Data Center (DMDC) of the U.S. Department of Defense (DoD).

DATES: We must receive your comments on or before July 31, 2017.

The re-established matching program will be effective on the latest of the following three dates: (A) August 1, 2017; (B) 30 days from June 30, 2017, as required by 5 U.S.C. 552a(e)(12) and OMB Circular A-108, assuming that ED receives no public comments or receives public comments but makes no changes to this notice as a result of the public comments, or 30 days from the date on which ED publishes a subsequent matching program notice in the Federal Register, assuming that ED receives public comments and revises this notice as a result of public comments; or (C) 60 days from the date on which ED transmits the report of the matching program, as required by 5 U.S.C. 552a(r) and OMB Circular A-108, to OMB, the U.S. House Committee on Oversight and Government Reform, and the U.S. Senate Committee on Homeland Security and Governmental Affairs, unless OMB waives any days of the 60-day review period for compelling reasons, in which case 60 days minus the number of days waived by OMB from the date of ED's transmittal of the report of the matching program.

The matching program will continue for 18 months after the effective date and may be extended for an additional 12 months thereafter, if the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments, address them to Marya Dennis, Management and Program Analyst, U.S. Department of Education, Federal Student Aid, Union Center Plaza, 830 First Street NE., Washington, DC 20002-5345.

Privacy Note: ED's policy is to make all comments received from members of the public available for public viewing in their entirety on the Federal eRulemaking Portal at www.regulations.gov. Therefore, commenters should be careful to include in their comments only information that they wish to make publicly available.

FOR FURTHER INFORMATION CONTACT: Ms. Marya Dennis, Management and Program Analyst, U.S. Department of Education, Federal Student Aid, Union Center Plaza, 830 First Street NE., Washington, DC 20002-5345. Telephone: (202) 377-3385.

If you use a telecommunications device for the deaf or a text telephone, call the Federal Relay Service, toll free, at 1-800-877-8339.

SUPPLEMENTARY INFORMATION: We provide this notice in accordance with 5 U.S.C. 552a (commonly known as the Privacy Act of 1974, as amended); Office of Management and Budget (OMB) Final Guidance Interpreting the Provisions of Public Law 100-503, the Computer Matching and Privacy Protection Act of 1988, 54 FR 25818 (June 19, 1989); and OMB Circular A-108, 81 FR 94424 (December 23, 2016), https://obamawhitehouse.archives.gov/sites/default/files/omb/assets/OMB/circulars/a108/omb_circular_a-108.pdf.

Under sections 420R and 473(b) of the Higher Education Act of 1965, as amended (HEA) (20 U.S.C. 1070h and 20 U.S.C. 1087mm(b)), the Secretary of Defense must provide the Secretary of Education with information to identify the children of military personnel who have died as a result of their military service in Iraq or Afghanistan after September 11, 2001, to determine if the child is eligible for increased amounts of title IV, HEA program assistance. DoD and ED have determined that matching data contained in the DoD DMDC system and the Defense Enrollment Eligibility Reporting System (DEERS) against ED's Federal Student Aid Application File (18-11-01) is the only practical method that the agencies can use to meet the statutory requirements of the HEA.

The prior Computer Matching Agreement (CMA) was published in the Federal Register on January 2, 2015 (80 FR 37). Under the provisions of the Computer Matching and Privacy Protection Act of 1988, Public Law 100-503, the CMA was renewed for an additional 12 months through July 31, 2017 because: (1) The program was conducted without change; and (2) each Data Integrity Board Chairperson certified in writing that the program was conducted in compliance with the CMA. ED and DoD are now re-establishing the CMA through this notice.

PARTICIPATING AGENCIES:

ED and DoD

AUTHORITY FOR CONDUCTING THE MATCHING PROGRAM:

Sections 420R and 473(b) of the HEA (20 U.S.C. 1070h and 20 U.S.C. 1087mm(b)) and 5 U.S.C. 552a.

PURPOSES:

This matching program identifies children whose parent or guardian was a member of the Armed Forces of the United States and died as a result of performing military service in Iraq or Afghanistan after September 11, 2001. These children (referred to as qualifying students) may be eligible for a greater amount of title IV, HEA program assistance. A qualifying student must have been age 24 or younger at the time of the parent's or guardian's death, or, if older than 24, enrolled part-time or full-time in an institution of higher education at the time of the parent's or guardian's death. Beginning July 1, 2010, students who are otherwise qualified children of deceased U.S. military who meet the requirements of section 420R of the HEA (20 U.S.C. 1070h) may also be eligible for higher amounts of title IV, HEA program assistance.

CATEGORIES OF INDIVIDUALS:

The individuals whose records are included in this matching program are dependents of service personnel who died as a result of performing their military service in Iraq or Afghanistan after September 11, 2001, which records are located in the DoD DMDC and DEERS systems, and all students who complete a Free Application for Federal Student Aid.

CATEGORIES OF RECORDS:

DoD data include the individual's first and last name, Social Security number (SSN), date of birth, and the parent's or guardian's date of death for each qualifying dependent record. ED uses the SSN, date of birth, and the first two letters of an applicant's last name to match with the Federal Student Aid Application File.

SYSTEM(S) OF RECORDS:

ED system of records: Federal Student Aid Application File (18-11-01) (76 FR 46774). DoD system of records: DMDC 01, Defense Manpower Data Center Data Base (76 FR 72391) (November 23, 2011), and DMDC 02 DoD Defense Enrollment Eligibility Reporting Systems (DEERS) (81 FR 49210) (July 27, 2016).

Accessible Format: Individuals with disabilities can obtain this document in an accessible format (such as, braille, large print, audiotape, or compact disc) on request to the contact person listed under FOR FURTHER INFORMATION CONTACT.

Electronic Access to This Document: The official version of this document is the document published in the Federal Register. Free internet access to the official edition of the Federal Register and the Code of Federal Regulations is available through the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 27, 2017.
Matthew Sessa,
Acting Chief Operating Officer Federal Student Aid.

[FR Doc. 2017-13772 Filed 6-29-17; 8:45 am]

BILLING CODE 4000-01-P